DEPARTMENT OF HEALTH AND HUMAN SERVICES

National Institutes of Health

National Institute of Nursing Research; Amended Notice of Meeting

Notice is hereby given of a change in the meeting of the National Advisory Council for Nursing Research, January 23, 2001, 1 p.m. to January 24, 2001, 1 p.m., Building 31C, Conference Room 10, National Institutes of Health, 31 Center Drive, Bethesda, MD, 20892 which was published in the Federal Register on December 12, 2000, FR 65 77654.

The meeting will be held in open session on January 23 from 1 p.m. to 5 p.m. and on January 24 from 9 a.m. to 10 a.m. The closed session begins on January 24 at 10 a.m. The meeting is partially Closed to the public.

Dated: January 5, 2001.
LaVerne Y. Stringfield,
Director, Office of Federal Advisory Committee Policy.

[FR Doc. 01-968 Filed 1-11-01; 8:45 am]

BILLING CODE 4140-01-M